DEPARTMENT OF STATE

[Delegation of Authority 283]

Delegation by the Secretary of State as Chairperson of the Board of the Millennium Challenge Corporation to the Vice President for Monitoring and Evaluation

By virtue of the authority vested in me as Chairperson of the Board of the Millennium Challenge Corporation by Section 18 of Article I of the Bylaws and other relevant provisions of the Bylaws and law, I hereby delegate, prescribe, assign and designate to the Vice President for Monitoring and Evaluation, Charles O. Sethness, the functions, duties and powers of the Chief Executive Officer, to be exercised subject to my direction, to the extent authorized by law.

Any authorities covered by this delegation may also be exercised by me and may be redelegated to the extent authorized by law.

This delegation shall enter into effect on August 9, 2005 and shall expire upon designation of an Acting Chief Executive Officer under Section 3345 of Title 5, United States Code or upon the appointment and entry upon the duty of a new Chief Executive Officer pursuant to Section 604(b) of the Millennium Challenge Act of 2003.

This delegation of authority shall be published in the Federal Register.

Dated: August 3, 2005.
Condoleezza Rice,
Secretary of State, Department of State.

[FR Doc. 05-15932 Filed 8-10-05; 8:45 am]

BILLING CODE 4710-08-P